DEPARTMENT OF COMMERCE

National Oceanic and Atmospheric Administration

[RTID 0648-XB591]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day in-person and virtual meeting (hybrid) of its Shrimp Advisory Panel (AP).

DATES: The meeting will convene Tuesday, December 7, 2021, 9 a.m.-5 p.m. and Wednesday, December 8, 2021, 9 a.m.-5 p.m., EST. For agenda details, see SUPPLEMENTARY INFORMATION.

ADDRESSES: Those who prefer to attend the meeting in-person may do so at the Gulf Council office. If you are unable or do not wish to travel, you may participate in the meeting via webinar. Registration information will be available on the Council's website by visiting www.gulfcouncil.org and clicking on the Shrimp AP meeting on the calendar.

Council address: Gulf of Mexico Fishery Management Council, 4107 W. Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible).

Tuesday, December 7, 2021; 9 a.m.-5 p.m. EST (8 a.m.-4 p.m. CST)

Meeting will begin with Introduction of Members, Election of Chair and Vice Chair, Adoption of Agenda, Approval of Minutes from March 23, 2021 meeting and Scope of Work. The AP will review Council Actions in Response to Motions from the March 2021 Shrimp AP Meeting and October 2021 Council Meeting Motions.

The AP will review and discuss an Update on Vessel Position Data Collection, which will include an overview of current cellular electronic logbook (cELB) units' programming and implementation, a presentation on elements of data from current cELB units, a presentation on the Gulf States Marine Fishery Commission process for data receival, security, and storage, and discussion of a comparison table on current vessel monitoring system technical specifications and proposed technical specifications. The AP will also receive a presentation on a Case Study of South Atlantic Rock Shrimp VMS data inputted into the Gulf Shrimp effort algorithm for illustration of compatibility, the Summary of October 2021 Shrimp Focus Group Meeting, and a Review of Draft Shrimp Framework Action.

Wednesday, December 8, 2021; 9 a.m.-5 p.m. EST (8 a.m.-4 p.m. CST)

The AP will reconvene and review a Draft Plan for Pilot Testing of VMS Units on Gulf Shrimp Vessels, receive an update from the Bureau of Ocean Energy Management on Wind Energy Development in the Gulf, hold a discussion on Shark Depredation, review the Recent Shrimp Biological Opinion, and receive an Update on Aquaculture Opportunity Areas.

Lastly, the AP will receive any public testimony and discuss other business items.

— Meeting Adjourns

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

These meetings are physically accessible to people with disabilities. Requests for sign language interpretation or other auxiliary aid or accommodations should be directed to Kathy Pereira, kathy.pereira@gulfcouncil.org, at least 5 days prior to the meeting date.

Authority: 16 U.S.C. 1801 et seq.

Dated: November 15, 2021.
Tracey L. Thompson,
Acting Deputy Director, Office of Sustainable Fisheries, National Marine Fisheries Service.

[FR Doc. 2021-25155 Filed 11-17-21; 8:45 am]

BILLING CODE 3510-22-P